DEPARTMENT OF COMMERCE

Foreign-Trade Zones Board

[B-58-2024]

Foreign-Trade Zone (FTZ) 35, Notification of Proposed Production Activity; PCI Pharma Services; (Pharmaceutical Products); Croydon and Philadelphia, Pennsylvania

PCI Pharma Services (PCI) submitted a notification of proposed production activity to the FTZ Board (the Board) for its facilities in Croydon, Pennsylvania and Philadelphia, Pennsylvania within Subzone 35L. The notification conforming to the requirements of the Board's regulations (15 CFR 400.22) was received on November 21, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product includes: cendakimab dosages packed in single and multi-dose packaging (duty-free).

The proposed foreign-status material/component includes: bulk cendakimab in filled syringes (duty-free).

Public comment is invited from interested parties. Submissions shall be addressed to the Board's Executive Secretary and sent to: ftz@trade.gov. The closing period for their receipt is January 8, 2025.

A copy of the notification will be available for public inspection in the “Online FTZ Information System” section of the Board's website.

For further information, contact Kolade Osho at Kolade.Osho@trade.gov.

Dated: November 22, 2024.
Elizabeth Whiteman,
Executive Secretary.

[FR Doc. 2024-28024 Filed 11-27-24; 8:45 am]

BILLING CODE 3510-DS-P